FEDERAL MARITIME COMMISSION

Notice of Agreements Filed

The Commission gives notice that it has requested that the parties to the below listed agreement provide additional information pursuant to section 6(d) of the Shipping Act of 1984, 46 U.S.C. app. §§ 1701 et seq. The Commission has determined that further information is necessary to evaluate the impact of the proposed agreement. This action prevents the agreement from becoming effective as originally scheduled.

Agreement No.: 011751.

Title: Braztrans Joint Service Agreement.

Parties: Companhia Libra de Navegacao and Compania-Sud Americana de Vapores S.A.

Dated: April 5, 2001.
By Order of the Federal Maritime Commission.
Bryant L. VanBrakle,
Secretary.

[FR Doc. 01-8868 Filed 4-10-01; 8:45 am]

BILLING CODE 6730-01-P